DEPARTMENT OF VETERANS AFFAIRS

Advisory Committee on Readjustment of Veterans, Notice of Meeting

The Department of Veterans Affairs (VA) gives notice under Public Law 92-463 that a meeting of the Advisory Committee on the Readjustment of Veterans will be held February 24 and 25, 2000. This is a regularly scheduled meeting for the purpose of reviewing VA services for veterans, and to formulate Committee recommendations and objectives. The meeting on both days will be held at The American Legion, Washington Office, 1608 K Street, NW, Washington, DC. The agenda on both days will commence at 8:30 a.m. and adjourn at 4:30 p.m.

The agenda for February 24 will begin with a review of the transition of the Veterans Health Administration (VHA) to an outpatient managed health care system, and a discussion of VHA special emphasis programs. The agenda will also cover a review of the Readjustment Counseling Service Vet Centers, and will review the programs and activities of VHA's medical center-based post-traumatic stress disorder and substance abuse program.

On February 25, the Committee will review issues related to compensation and pension for PTSD, and VHA programs for women veterans and AIDS services. The agenda will also consist of a planning meeting to formulate objectives and recommendations for the Committee's Congressional report.

The meeting will be open to the public. Those who plan to attend or who have questions concerning the meeting should contact Alfonso R. Bartes, Director, Readjustment Counseling Service, Department of Veterans Affairs (telephone number: 202-273-8967).

Dated: February 4, 2000.
By Direction of the Secretary:
Marvin R. Eason,
Committee Management Officer.

[FR Doc. 00-3294 Filed 2-11-00; 8:45 am]

BILLING CODE 8320-01-M